DEPARTMENT OF TRANSPORTATION

Transportation Security Administration

[Docket No. TSA-2002-11604]

Security Programs for Aircraft 12,500 Pounds or More

AGENCY: Transportation Security Administration (TSA), DOT.

ACTION: Notice.

SUMMARY: This action establishes a schedule for comments on a security program for operators of aircraft with a maximum certificated takeoff weight of 12,500 or more pounds, and the date on which operators must comply with the security program once it is issued in final form.

DATES: Comments to the proposed security program may be submitted to TSA from August 30 through September 30, 2002.

Security program compliance date: December 1, 2002.

ADDRESSES: Address all comments concerning this action to Nouri Larbi, Aviation Security Regulations and Policy, Room 323, Transportation Security Administration, 800 Independence Avenue, SW., Washington, DC 20591. Please be sure to submit two copies of your comments.

FOR FURTHER INFORMATION CONTACT: Nouri Larbi, telephone: (202) 267-8543, facsimile (202) 267-5359, nouri.larbi@faa.gov.

SUPPLEMENTARY INFORMATION: On February 22, 2002, TSA published a final rule in the Federal Register (67 FR 8205), known as the “Twelve-Five Rule,” that, in part, required new security measures for operators of aircraft with a maximum certificated takeoff weight of 12,500 pounds or more. Under the rule, these operators must adopt and carry out certain security measures approved by TSA, generally known as the “Twelve-Five Security Program.”

As published, the effective date of the Twelve-Five Rule was June 24, 2002. This document does not alter that date. As discussed below, it is now necessary to establish a date for comments on a proposed security program and a date on which aircraft operators must implement the final TSA-approved Twelve-Five Security Program. Security programs constitute sensitive security information (SSI), which are disclosed only to persons with a need to know, in accordance with 49 CFR part 1520. Therefore, the Twelve-Five Security Program will be distributed for comment only to affected operators.

The twelve-five rule was issued as a no-notice final rule, and so the amount of time allotted for operators to comment on a proposed security plan and for TSA to revise it if necessary has been shorter than usual. In addition, many of the aircraft operators subject to the rule have not been subject to security program requirements in the past, and so they may need more time to develop compliant internal procedures.

TSA has developed a proposed Twelve-Five Security Program and is in the process of providing the proposed Twelve-Five Security Program to these operators. These operators will have thirty days, from August 30 to September 30, to comment on the proposed security program. TSA will consider all comments, revise the program as needed, and issue a final security program by October 31, 2002. The operators must adopt and implement the final security program by December 1, 2002.

It is important to note that the compliance dates established for the other requirements in Docket No. TSA-2002-11604 published in February 2002, are not changed. The compliance date for 49 CFR 1544.230, regarding criminal history records checks for flightcrew members, remains December 6, 2002. See § 1544.230(k). The compliance date for § 1544.237, regarding flight deck privileges, remains June 24, 2002.

Issued in Washington, DC, on August 21, 2002.
J.M. Loy,
Acting Under Secretary of Transportation for Security.

[FR Doc. 02-21978 Filed 8-27-02; 8:45 am]

BILLING CODE 4910-62-P